DEPARTMENT OF AGRICULTURE

Rural Housing Service

Request for Proposals: Section 516 Farm Labor Housing (FLH) New Construction or Repair Grants and Emergency Grants To Assist Low-Income Migrant and Seasonal Farmworkers

Announcement Type: Initial Request for Proposals (RFP) inviting proposals from qualified applicants.

Catalog of Federal Domestic Assistance Number (CFDA): 10.405.

SUMMARY: The Rural Housing Service announces the availability of funds and the timeframe to submit applications for grants to construct or repair Section 516 off-farm FLH. In addition, this RFP also announces an availability of funds and the timeframe to submit applications for grants to provide emergency services to assist low-income migrant and seasonal farmworkers. Both of these funding opportunities are designed to meet needs in communities that were affected by hurricanes and tropical storms in calendar year 2003 or 2004, as authorized by the Military Construction Appropriations and Emergency Hurricane Supplemental Appropriations Act, 2005, Public Law 108-324 (October 13, 2004).

DATES: The deadline for receipt of all applications in response to this RFP is 5 p.m., Eastern Daylight Time, on December 27, 2004. The application closing deadline is firm as to date and hour. The Agency will not consider any application that is received after the closing deadline. Applicants intending to mail applications must provide sufficient time to permit delivery on or before the closing deadline. Acceptance by a post office or private mailer does not constitute delivery. Facsimile (FAX), COD, and postage due applications will not be accepted.

FOR FURTHER INFORMATION CONTACT: Douglas H. MacDowell, Senior Loan Specialist, Multi-Family Housing Processing Division—STOP 0781 (Room 1263-S), U.S. Department of Agriculture—Rural Housing Service, 1400 Independence Ave., SW., Washington, DC 20250-0781 or by telephone at (202) 720-1627. (This is not a toll free number.)

SUPPLEMENTARY INFORMATION:

Paperwork Reduction Act

The reporting requirements contained in this notice have been approved by the Office of Management and Budget under Control Number 0575-0045.

Overview

The Military Construction Appropriations and Emergency Hurricane Supplemental Appropriations, 2005, Public Law 108-324 (October 13, 2004), made available $5,000,000 for the provision of low-rent housing and related facilities for domestic farm labor, as authorized by Section 516 of the Housing Act of 1949. Of this amount, up to $3,000,000 may be used for emergency services to assist low-income migrant and seasonal farmworkers, as authorized by section 2281 of the Food, Agriculture, Conservation, and Trade Act of 1990.

Program Administration

I. Funding Opportunities Description

This RFP requests applications from eligible applicants for grants to construct or repair section 516 off-farm FLH. The Agency's Farm Labor Housing Program is authorized by the Housing Act of 1949. Grants for the construction or repair of off-farm FLH are authorized by section 516 (42 U.S.C. 1486) of the Housing Act of 1949. Agency regulations for the Farm Labor Housing Program are published at 7 CFR part 1944, subpart D. Eligibility for section 516 off-farm FLH grants is limited to broad-based nonprofit organizations, nonprofit organizations of farmworkers, federally recognized Indian tribes, agencies or political subdivisions of State or local government, and public agencies (such as housing authorities). Housing that is constructed or repaired with these grants must meet the Agency design and construction standards contained in 7 CFR part 1924, subparts A and C. Once constructed, section 516 off-farm FLH must be managed in accordance with the program's management regulation, 7 CFR part 1930, subpart C. Tenant eligibility is limited to “domestic farm laborer”, as defined by 7 CFR part 1944, subpart D, at 7 CFR 1944.153. That definition is “a person who receives a substantial portion of his or her income performing farm labor employment (not self-employed) in the United States, Puerto Rico, or the Virgin Islands and either is a citizen of the United States or resides in the United States, Puerto Rico, or the Virgin Islands after being legally admitted for permanent residence. This definition may include the immediate family members residing with such a person.” The term “farm labor”, as used in the definition of domestic farm labor, includes services in connection with cultivating the soil, raising or harvesting any agriculture or aquaculture commodity; or in catching, netting, handling, planting, drying, packing, grading, storing, or preserving in its unmanufactured state any agriculture or aquaculture commodity; or delivering to storage, market, or a carrier for transportation to market or to processing any agricultural or aquacultural commodity. In addition, section 516 off-farm FLH must be operated on a non-profit basis and tenancy must be open to all qualified domestic farm laborers, regardless of which farm they work at. Rental assistance is not available through this Notice.

This RFP also requests applications for the purpose of providing emergency services to low-income migrant and seasonal farmworkers. Grants for emergency services will be awarded separate and apart from the grants for the construction and repair of section 516 housing and is not subject to the same limitations. Eligibility for grants for emergency services is limited to public agencies or private organizations with tax exempt status under section 501(c)(3) of Title 26 United States Code that have experience in providing emergency services to low-income migrant and seasonal farmworkers where the Secretary of Agriculture determines that a local, state, or national emergency or disaster has caused low-income migrant or seasonal farmworkers to lose income, be unable to work, or to stay at home or return home in anticipation of work shortages. The types of service could include, but are not limited to, assistance in meeting rent or mortgage payments, utility bills, child care, transportation, school supplies, food, repair or rehabilitation of farmworker housing (not restricted to units financed by the Agency), facilities related to farmworker housing such as an infirmary for emergency care of a child care facility, and the construction of new farmworker housing units. A low-income migrant or seasonal farmworker is defined by section 2281 of the Food, Agriculture, Conservation, and Trade Act of 1990 as an individual:

(1) Who has, during any consecutive 12 month period within the preceding 24 month period, performed farm work for wages;

(2) Who has received not less than one-half of such individual's total income, or been employed at least one-half of total work time in farm work; and

(3) Whose annual family income within the 12 month period referred to in paragraph (1) does not exceed the higher of the poverty level or 70 percent of the lower living standard income level.

The “lower living standard income level” referred to in paragraph (3) was defined in a Department of Labor, Federal Register Notice entitled “Workforce Investment Act; Lower Living Standard Income Level,” dated June 25, 2004, (69 FR 35679-35685). Copies of that Notice shall be made available on request.

Applicants who seek funding for both the construction or repair of section 516 off-farm FLH and to provide emergency services to low-income migrant and seasonal farmworkers, must submit separate, individual applications for each grant purpose.

II. Award Information

The Military Construction Appropriations and Emergency Hurricane Supplemental Appropriations Act, 2005, Public Law 108-324 (October 13, 2004), made available $5,000,000 for the provision of low-rent housing and related facilities for domestic farm labor, as authorized by section 516 of the Housing Act of 1949. Of this amount, up to $3,000,000 may be used for emergency services to assist low-income migrant and seasonal farmworkers, as authorized by section 2281 of the Food, Agriculture, Conservation, and Trade Act of 1990.

Grants to provide emergency services may not exceed $500,000 and may be limited by geographic area so that multiple grant recipients are not providing similar services to the same service areas. Grants for the construction or repair of section 516 off-farm FLH are not limited to $500,000, but the grant may not exceed 90 percent of the total development cost of the housing.

III. Eligibility Information

Applicant Eligibility

(1) To be eligible to receive a grant for the construction or repair of section 516 off-farm FLH, the applicant must be a broad-based nonprofit organization, a nonprofit organization of farmworkers, a federally recognized Indian tribe, or an agency or political subdivision of a State or local government, or a public agency (such as a housing authority) and:

(a) Be an organization, as defined in 7 CFR 1944.153 with an assured life over a period of years sufficient to carry out the purpose of providing low-rent housing for domestic farm labor. This should not be less than the anticipated useful life of the project as suitable housing for domestic farm labor, assuming proper maintenance and repair of the property. Ordinarily, this should not be less than 50 years.

(b) When the grant is closed, be the owner of the housing and related facilities, including the site.

(c) Be unable to provide the necessary housing from its own resources, including any power to levy taxes, assessments, or charges, and be unable to obtain the necessary credit through a labor housing loan or from other sources upon terms and conditions the applicant could reasonably be expected to fulfill.

(d) Possess the legal and actual capacity, ability, and experience to incur and carry out the undertakings and obligations required, including the obligations to maintain and operate the housing and related facilities for the purpose for which the grant is made.

(e) Legally obligate itself not to divert income from the housing to any other business, enterprise, or purpose.

(f) In addition, eligibility is limited to projects in communities affected by hurricanes and tropical storms in calendar year 2003 or 2004. Applicants must provide documentation to evidence that they meet all of these eligibility requirements.

(2) To be eligible to receive a grant to provide emergency services to low-income migrant and seasonal farmworkers, the applicant must:

(a) Be either a public agency or private organization with tax exempt status under section 501(c)(3) of Title 26 United States Code.

(b) Have experience in providing emergency services to low-income migrant and seasonal farmworkers where the Secretary of Agriculture determines that a local, state, or national emergency or disaster has caused low-income migrant or seasonal farmworkers to lose income, be unable to work, or to stay at home or return home in anticipation of work shortages.

(c) Be limited to projects in communities affected by hurricanes and tropical storms in calendar year 2003 or 2004. Applicants must provide documentation to evidence that they meet all of these eligibility requirements.

Cost sharing or matching. Grants for the construction or repair of section 516 off-farm FLH may not exceed 90 percent of the total development cost. There are no cost sharing or matching requirements for grants for emergency services.

Other Administrative Requirements

(1) The following policies and regulations apply to grants made in response to this RFP:

(a) The policies and regulations contained in 7 CFR part 1901, subpart E regarding equal opportunity requirements.

(b) The requirements of 7 CFR part 3015, and 7 CFR part 3016 or 7 CFR part 3019 (as applicable), which establish the uniform administrative requirements for grants and cooperative agreements to state and local governments and to non-profit organizations.

(c) The policies and regulations contained in 7 CFR part 1901, subpart F regarding historical and archaeological properties.

(d) The policies and regulations contained in 7 CFR part 1940, subpart G regarding environmental assessments.

(2) The following additional policies and regulations also apply to grants for the construction or repair of section 516 off-farm FLH:

(a) The policies and regulations contained in 7 CFR part 1944, subpart D regarding the grant authorities of the Farm Labor Housing Program.

(b) The policies and regulations contained in 7 CFR part 1924, subpart A regarding planning and construction.

(c) The policies and regulations contained in 7 CFR part 1924, subpart C regarding the planning and performing of site development work.

(e) The policies and regulations contained in 7 CFR part 1930, subpart C regarding the management and supervision of section 516 off-farm FLH.

IV. Application and Submission Information

Applicants who seek funding for both the construction or repair of section 516 off-farm FLH and for emergency services to low-income migrant and seasonal farmworkers, must submit separate, individual applications for each grant purpose.

The application process will be in two phases: the initial preapplication (or proposal) and the submission of a formal application. Only those proposals that are selected for funding will be invited to submit formal applications. In the event that a proposal is selected for further processing and the applicant declines, the next highest ranked unfunded preapplication may be selected. If a preapplication is accepted for further processing, the applicant will be expected to submit the additional information prior to the obligation of grant funds. At the time of final grant approval, the Agency and grant recipients shall enter into a grant agreement.

Preapplication Requirements

The preapplication must contain the following:

(1) A summary page listing the following items. This information should be double-spaced between items and not be in narrative form.

(a) Identification of the grant purpose (i.e., for the construction or repair of section 516 off-farm FLH or for providing emergency services to low-income migrant and seasonal farmworkers). As stated in this Notice, separate, individual applications must be submitted for each grant purpose.

(b) Applicant's name.

(c) Applicant's Taxpayer Identification Number.

(d) Applicant's address.

(e) Applicant's telephone number.

(f) Name of applicant's contact person, telephone number, and address.

(g) Amount of grant requested.

(h) Applicant's Dun and Bradstreet Data Universal Numbering System (DUNS) number. As required by the Office of Management and Budget (OMB), all grant applicants must provide a DUNS number when applying for Federal grants, on or after October 1, 2003. Organizations can receive a DUNS number at no cost by calling the dedicated toll-free DUNS Number request line at 1-866-705-5711. Additional information concerning this requirement is provided in a policy directive issued by OMB and published in the Federal Register on June 27, 2003 (68 FR 38402-38405).

(2) A narrative describing the applicant's ability to meet the eligibility requirements stated in this Notice.

(3) A detailed Statement of Work.

(4) An organizational plan that includes a staffing chart complete with name, job title, salary, hours, timelines, and descriptions of employee duties to achieve the objectives of the grant program.

(5) Organizational documents to evidence the applicant's status as a properly organized private or public nonprofit agency which meets the applicant eligibility requirements and financial statements to evidence the applicant's financial ability to carry out the objectives of the grant program.

(6) A detailed budget plan projecting the monthly and annual expenses the grantee will incur. Costs will be limited to those that are allowed under 7 CFR part 3015, and 7 CFR part 3016 or 3019, as applicable.

(7) Applicants must submit documentation that the community was affected by a hurricane or tropical storm in calendar year 2003 or 2004.

(8) Applicants for grants to provide emergency services to low-income migrant and seasonal farmworkers must include a narrative describing its knowledge, demonstrated ability, or practical experience in delivering direct emergency assistance to low-income migrant and seasonal farmworkers. In addition, to ensure that funds are equitably distributed, and that there is no duplication of efforts on related projects, applicants must clearly identify the geographic area that they intend to serve and provide documentation that they have the experience and ability to service those areas.

(9) Applications for grants to construct or repair section 516 off-farm FLH must also include all of the information, materials, forms, and exhibits required by 7 CFR part 1944, subpart D, as well as comply with the requirements of this Notice. Each application must also include an estimate of development cost utilizing Form RD 1924-13, “Estimate and Certificate of Actual Cost,” and a proposed operating budget utilizing Form RD 1930-7, “Multiple Family Housing Project Budget.” Applicants must provide documentation that there is a pressing need for such facilities and that there is a reasonable doubt that the housing can be provided without the grant assistance.

(10) A separate one-page information sheet listing each of the “Application Scoring Criteria” contained in this Notice, followed by the page numbers of all relevant material and documentation that is contained in the proposal that supports these criteria. Applicant's are also encouraged, but not required, to include a checklist of all of the application requirements and to have their application indexed and tabbed to facilitate the review process.

Funding Restrictions

Grants to provide emergency services may not exceed $500,000 and may be limited by geographic area so that multiple grant recipients are not providing similar services to the same service areas. Grants for emergency services may not be used for pre-award costs.

Grants for the construction or repair of section 516 off-farm FLH are not limited to $500,000, but the grant may not exceed 90 percent of the total development cost of the housing. Grants for the construction or repair of section 516 off-farm FLH is subject to the limitations and conditions listed at 7 CFR 1944.164.

All grants made in response to this Notice are subject to the restrictions contained in 7 CFR parts 3015, 3016, and 3019.

Intergovernmental review. The construction of new section 516 off-farm FLH is subject to the Intergovernmental Review provisions of Executive Order 12372, which requires intergovernmental consultation with State and local officials.

Submission address. Preapplications should be submitted to USDA—Rural Housing Service; Attention: Douglas H. MacDowell, Multi-Family Housing Processing Division—STOP 0781 (Room 1263-S), 1400 Independence Ave. SW., Washington, DC 20250-0781.

V. Application Review Information

All applications will be evaluated by a grant committee. The grant committee will make recommendations to the Agency Administrator concerning preliminary eligibility determinations and for the selection of applications for further processing based on the selection criteria contained in this RFP and the availability of funds. The Administrator will inform applicants of the status of their application within 30 days of the closing date of the RFP.

Applications for grants to construct or repair section 516 off-farm FLH will compete against other applications to construct or repair section 516 off-farm FLH. Likewise, applications for grants to provide emergency services to low-income migrant and seasonal farmworkers will compete against other applications for grants for emergency services.

Applications for grants to provide emergency services to low-income migrant and seasonal farmworkers will be evaluated by the types of assistance to be provided. Because the types of assistance may differ depending on the geographic area to be served and the nature of the disaster or emergency experienced, equal weight will be applied to each form of assistance to be rendered.

Selection Criteria

(1) Applications to provide emergency services to low-income migrant and seasonal farmworkers will be scored on the following basis:

(a) Experience of applicant providing emergency services.

(b) The number of low-income migrant and seasonal farmworkers (as defined in this Notice) affected by the emergency.

(c) The number of low-income migrant and seasonal farmworkers (as defined in this Notice) to be assisted by the proposal.

(d) Economic and social benefits to low-income migrant and seasonal farmworkers (as defined in this Notice) and their families from the services to be provided.

(2) Proposals for construction or repair of section 516 off-farm FLH for domestic farm laborers will be scored on the following basis:

(a) The number of domestic farm laborers (as defined in 7 CFR part 1944, subpart D) that will be provided with decent, safe and sanitary housing as a result of the proposed use of the grant funds.

(b) The degree to which health and safety issues will be addressed through the use of the grant funds.

Dated: October 22, 2004.
Russell T. Davis,
Administrator, Rural Housing Service.

[FR Doc. 04-24099 Filed 10-27-04; 8:45 am]

BILLING CODE 3410-XV-P